DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before November 30, 2009. Address written comments to Statutory Import Programs Staff, Room 3720, U.S. Department of Commerce, Washington, DC 20230. Applications may be examined between 8:30 a.m. and 5 p.m. at the U.S. Department of Commerce in Room 3720.

Docket Number: 09-059. Applicant: Fermi Research Alliance LLC-Fermi National Accelerator Laboratory, Kirk Road & Wilson Street, P.O. Box 500, Batavia, IL 60510. Instrument: Wavelength Shifting Fiber. Manufacturer: Kuraray Co., Ltd.; Japan. Intended Use: This instrument will be used to observe the transmutation of muon neutrinos to electron neutrinos as they travel from their production point through the earth to a 20 kiloton detector. The instrument allows the light generated by neutrino interactions in the experiment's 18 kilotons of liquid scintillator to be captured, wavelength shifted and transmitted to photo-detectors. The fibers must be .7mm in diameter and 32 meters in length. Further, the light generated in the fiber must not suffer unacceptable attenuation in traveling down 16-20 m of the WLS fiber. As such, a pertinent characteristic of this instrument is that it have an attenuation length of >20m. Justification for Duty-Free Entry: There are instruments of the same general category being manufactured within the United States, but they could not be utilized for the purposes described above. Application accepted by Commissioner of Customs: October 9, 2009.

Docket Number: 09-063. Applicant: Argonne National Laboratory, 9700 S. Cass Ave., Lemont, IL 60439. Instrument: CEOS Spherical Aberration Corrector. Manufacturer: CEOS Corrected Electron Optical Systems, GmbH; Germany. Intended Use: This instrument will be installed on a transmission electron microscope and used for the study of nanoscale magnetic and ferroelectric materials. The aberration corrector greatly enhances the spatial resolution with which the experiments described above can be carried out. All experiments will be carried out in Lorentz mode, and will include imaging and electron diffraction combined with certain in-situ techniques. A pertinent characteristic of this instrument is that it must be capable of compensating completing the spherical aberration of the low field objective lens on the 2100F TEM to which it will be attached. The spherical aberration coefficient of this lens is 200 mm. In addition the CEOS aberration corrector can compensate this value of spherical aberration while only increasing the chromatic aberration by approximately 20%. Justification for Duty-Free Entry: There are no instruments of the same general category being manufactured within the United States. Application accepted by Commissioner of Customs: October 21, 2009.

Dated: November 3, 2009.
Christopher Cassel,
Acting Director, IA Subsidies Enforcement Office.

[FR Doc. E9-27067 Filed 11-9-09; 8:45 am]

BILLING CODE 3510-DS-P